DEPARTMENT OF ENERGY

Federal Energy Regulatory Commission

Combined Notice of Filings

Take notice that the Commission has received the following Natural Gas Pipeline Rate and Refund Report filings:

Filings Instituting Proceedings

Docket Numbers: RP22-1137-000.

Applicants: Algonquin Gas Transmission, LLC.

Description: § 4(d) Rate Filing: Negotiated Rates—Cleanup Filing eff 9/22/22 to be effective 9/22/2022.

Filed Date: 8/22/22.

Accession Number: 20220822-5102.

Comment Date: 5 p.m. ET 9/6/22.

Docket Numbers: RP22-1138-000.

Applicants: Natural Gas Pipeline Company of America LLC.

Description: 4(d) Rate Filing: Negotiated Rate Agreement Filing-Spotlight Energy to be effective 9/1/2022.

Filed Date: 8/22/22.

Accession Number: 20220822-5120.

Comment Date: 5 p.m. ET 9/6/22.

Docket Numbers: RP22-1139-000.

Applicants: Tennessee Gas Pipeline Company, L.L.C.

Description: § 4(d) Rate Filing: PAL NRA Hartree Partners, LP SP378771 to be effective 10/1/2022.

Filed Date: 8/22/22.

Accession Number: 20220822-5142.

Comment Date: 5 p.m. ET 9/6/22.

Docket Numbers: RP22-1140-000.

Applicants: Iroquois Gas Transmission System, L.P.

Description:§ 4(d) Rate Filing: 8.23.22 Negotiated Rates—Macquarie Energy LLC R-4090-28 to be effective 9/1/2022.

Filed Date: 8/23/22.

Accession Number: 20220823-5016.

Comment Date: 5 p.m. ET 9/6/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2022.
Kimberly D. Bose,
Secretary.

[FR Doc. 2022-18561 Filed 8-26-22; 8:45 am]

BILLING CODE 6717-01-P